FEDERAL COMMUNICATIONS COMMISSION

47 CFR Part 73

[MB Docket No. 21-178; RM-11905; DA 21-770; FR ID 36875]

Television Broadcasting Services New Orleans, Louisiana

AGENCY: Federal Communications Commission.

ACTION: Final rule.

SUMMARY: On April 21, 2021, the Media Bureau, Video Division (Bureau) issued a Notice of Proposed Rulemaking (NPRM) in response to a petition for rulemaking filed by the Greater New Orleans Educational Television Foundation (Petitioner), the licensee of noncommercial educational PBS member station WYES-TV, channel *11, New Orleans, Louisiana, requesting the substitution of channel *28 for channel *11 at New Orleans in the DTV Table of Allotments. For the reasons set forth in the Report and Order referenced below, the Bureau amends FCC regulations to substitute channel *28 for channel *11 at New Orleans.

DATES: Effective July 19, 2021.

FOR FURTHER INFORMATION CONTACT: Joyce Bernstein, Media Bureau, at (202) 418-1647 or Joyce.Bernstein@fcc.gov.

SUPPLEMENTARY INFORMATION: The proposed rule was published at 86 FR 23340 on May 3, 2021. The Petitioner filed comments in support of the petition reaffirming its commitment to apply for channel *28. No other comments were filed. The Petitioner states that WYES-TV is the only station licensed to New Orleans operating on a VHF channel, and moving to a UHF channel would improve viewers' access to WYES-TV's PBS and other public television programming by improving indoor reception and resolving VHF reception issues. In addition, the Petitioner submitted an analysis, using the Commission's TVStudy software analysis program, demonstrating that it will continue to serve all of the population located within the licensed channel *11 contour.

This is a synopsis of the Commission's Report and Order, MB Docket No. 21-178; RM-11905; DA 21-770, adopted July 2, 2021, and released July 2, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (i), amend the Post-Transition Table of DTV Allotments, under Louisiana, by revising the entry for “New Orleans” to read as follows:

§ 73.622 Digital television table of allotments.

* * * * *

(i) * * *

Community | Channel No.
* * * * *
LOUISIANA
* * * * *
New Orleans | 15, 21, 26, *28, 29, *31, 36, 43, 50
* * * * *

[FR Doc. 2021-15260 Filed 7-16-21; 8:45 am]

BILLING CODE 6712-01-P